DEPARTMENT OF HEALTH AND HUMAN SERVICES

Office of the Assistant Secretary for Preparedness and Response; HHS Public Health Emergency Medical Countermeasures Enterprise Implementation Plan for Chemical, Biological, Radiological, and Nuclear Threats

AGENCY: Office of the Assistant Secretary for Preparedness and Response, Department of Health and Human Services.

ACTION: Notice; correction.

SUMMARY: The Department of Health and Human Services (HHS) published a document in the Federal Register of April 23, 2007, concerning the HHS Public Health Emergency Medical countermeasures Enterprise Implementation Plan for Chemical, Biological, Radiological and Nuclear (CBRN) Threats. The document should have provided additional information regarding a public comment period.

Correction

In the Federal Register of April 23, 2007, in FR Doc. 07-1983, on page 20117, in the third column, correct the For Further Information Contact section and insert the following caption to read as follows:

FOR FURTHER INFORMATION OR TO SUBMIT COMMENTS PLEASE CONTACT: Dr. Susan Coller, Policy Analyst, Office of Public Health Emergency Medical Countermeasures, Office of the Assistant Secretary for Preparedness and Response at 330 Independence Ave., SW., Room G640, Washington, DC 20201, by e-mail at PHEMCSTRAT@HHS.GOV or by phone 202-260-1200. Please submit comments on the HHS PHEMCE Implementation Plan on or before July 13, 2007. HHS will not respond to individual comments; however, comments received will be compiled and considered to inform HHS programs related to the research, development, acquisition, deployment and utilization of medical countermeasures for CBRN threats.

Dated: Apirl 26, 2007.
Brian Kamoie,
Acting Office Director, Office of Policy and Strategic Planning, Office of the Assistant Secretary for Preparedness and Response, Department of Health and Human Services.

[FR Doc. E7-8358 Filed 5-1-07; 8:45 am]

BILLING CODE 4150-37-P